COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete product(s) and service(s) from the Procurement List that were furnished by nonprofit agencies employing persons who are blind or have other severe disabilities.

DATES: Comments must be received on or before: April 9, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

7520-01-587-9632—Pen, Ballpoint, Retractable, 3 Pack, Blue, Medium Point

7520-01-587-9638—Pen, Ballpoint, Retractable, 3 Pack, Blue, Fine Point

7520-01-587-9645—Pen, Ballpoint, Retractable, Hybrid Ink, 6 Pack, Blue, Medium Point

7520-01-587-9646—Pen, Ballpoint, Retractable, Hybrid Ink, 6 Pack, Black, Medium Point

Designated Source of Supply: Industries for the Blind and Visually Impaired, Inc., West Allis, WI

Contracting Activity: GSA/FAS ADMIN SVCS ACQUISITION BR(2, NEW YORK, NY

NSN(s)—Product Name(s):

7105-00-139-7573—Coffee Table, 36″ x 36″ x 17″, English Oak, Laminated Top

7105-00-139-7601—Coffee Table, 48″ x 22″ x 17″, English Oak, Laminated Top

7105-01-462-1067—Coffee Table, 36″ x 36″ x 17″, English Oak, Natural Finish

7105-01-462-1068—Coffee Table, 48″ x 22″ x 17″, English Oak, Natural Finish

7105-00-139-7598—End Table, 26″ x 18″ x 21″, English Oak, Laminated Top

7105-01-462-1069—End Table, 26″ x 18″ x 21″, English Oak, Natural Finish

7105-00-139-7600—Lamp Table, 27″L x 27″W x 21″H, English Oak, Laminated Top

7105-01-462-1070—Lamp Table, 27″L x 27″W x 21″H, English Oak, Natural Finish

Designated Source of Supply: Knox County Association for Remarkable Citizens, Inc., Vincennes, IN

Contracting Activity: GSA/FAS FURNITURE SYSTEMS MGT DIV, PHILADELPHIA, PA

Service(s)

Service Type: Laundry Service

Mandatory for: Pennsylvania Air National Guard, 171st Air Refueling Wing, Aircrew Alert Facility, 300 Tanker Road, Coraopolis, PA

Designated Source of Supply: Hancock County Sheltered Workshop, Inc., Weirton, WV

Contracting Activity: DEPT OF THE ARMY, W7NX USPFO ACTIVITY PA ARNG

Service Type: Janitorial Service

Mandatory for: USDA Forest Service, White Mountain National Forest Headquarters, 71 White Mountain Dr, Campton, NH

Designated Source of Supply: Community Workshops, Inc., Boston, MA

Contracting Activity: FOREST SERVICE, ALLEGHENY NATIONAL FOREST

Michael R. Jurkowski,
Acting Director, Business Operations.

[FR Doc. 2023-04937 Filed 3-9-23; 8:45 am]

BILLING CODE 6353-01-P